DEPARTMENT OF DEFENSE

FAR Part 31 Streamlining

AGENCY: Department of Defense (DoD).

ACTION: Correction to notice.

SUMMARY: DoD is issuing a correction to the notice published at 66 FR 13712 on March 7, 2001, that announced a public meeting to be held on April 19, 2001. The subject heading in the notice is corrected to read “FAR Part 31 Streamlining” instead of “Cost Accounting Standards Administration.”

FOR FURTHER INFORMATION CONTACT: Mr. David Capitano, Office of Cost, Pricing, and Finance, by telephone at (703) 695-7249, by FAX at (703) 693-9616, or by e-mail at dcapitano@osd.mil.

Correction

In this issue of Wednesday, March 7, 2001, on page 13712, in the second column, the heading of notice document 01-5581 is corrected to read as set forth above.

Michele P. Peterson,
Executive Editor, Defense Acquisition Regulations Council.

[FR Doc. 01-7312 Filed 3-22-01; 8:45 am]

BILLING CODE 5000-04-M